FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 28, 2018.

A. Federal Reserve Bank of Chicago (Colette A. Fried, Assistant Vice President) 230 South LaSalle Street, Chicago, Illinois 60690-1414:

1. Jill E. Markowski, individually and as trustee of the Jill E. Sapiente Trust and Jill E. Markowski Descendants Trust, both of Inverness, Illinois; the Jill E. Sapiente Trust, Inverness, Illinois; the Jill E. Markowski Descendants Trust, Inverness, Illinois; together with John S. Sapiente, as trustee of the John S. Sapiente Revocable Trust, Naples, Florida; the John S. Sapiente Revocable Trust, Naples, Florida; Jacqueline M. Buckstaff, as trustee of the Jacqueline M. Sapiente Trust and the Jacqueline M. Buckstaff Descendants Trust, both of Deer Park, Illinois; the Jacqueline M. Sapiente Trust, Deer Park, Illinois; the Jacqueline M. Buckstaff Descendants Trust, Deer Park, Illinois; John A. Sapiente, as trustee of the John A. Sapiente Trust and the Joan A. Sapiente Descendants Trust, Inverness, Illinois; and the John A. Sapiente Trust Inverness, Illinois; and the John A. Sapiente Descendants Trust Inverness, Illinois; to acquire voting shares of Elgin Bancshares, Inc., Elgin, Illinois, and thereby indirectly acquire shares of Union National Bank and Trust Company, Elgin, Illinois.

Board of Governors of the Federal Reserve System, November 6, 2018.
Yao-Chin Chao,
Assistant Secretary of the Board.

[FR Doc. 2018-24590 Filed 11-8-18; 8:45 am]

BILLING CODE P